DEPARTMENT OF HOMELAND SECURITY

Coast Guard

33 CFR Part 117

[Docket No. USCG-2019-0086]

Drawbridge Operation Regulation; Hackensack River, Little Snake Hill, NJ

AGENCY: Coast Guard, DHS.

ACTION: Notice of temporary deviation from regulations; request for comments.

SUMMARY: The Coast Guard is issuing a temporary deviation from the operating schedule that governs the Amtrak Portal Bridge across the Hackensack River, mile 5.0, at Little Snake Hill, New Jersey. This deviation will test a change to the drawbridge operation schedule to determine whether a permanent change to the schedule is needed. The Coast Guard is seeking comments from the public about the impact to both train and vessel traffic generated by this change.

DATES: This deviation is effective without actual notice from March 15, 2019 through 11:59 p.m. on September 9, 2019. For the purposes of enforcement, actual notice will be used from 12:01 a.m. on March 14, 2019, until March 15, 2019.

Comments and related material must be received by the Coast Guard on or before July 12, 2019.

ADDRESSES: You may submit comments identified by docket number USCG-2019-0086 using Federal eRulemaking Portal at http://www.regulations.gov.

See the “Public Participation and Request for Comments” portion of the SUPPLEMENTARY INFORMATION section below for instructions on submitting comments.

FOR FURTHER INFORMATION CONTACT: If you have questions on this temporary deviation, call or email Judy K. Leung-Yee, Project Officer, First Coast Guard District; telephone 212-514-4336, email Judy.K.Leung-Yee@uscg.mil.

SUPPLEMENTARY INFORMATION:

Table of Abbreviations

CFR Code of Federal Regulations

DHS Department of Homeland Security

FR Federal Register

I. Background, Purpose and Legal Basis

In a letter to the Coast Guard, dated December 4, 2018, The National Railroad Passenger Corporation (Amtrak) requested to change operating requirements for the Amtrak's Portal Bridge across the Hackensack River, mile 5.0, at Little Snake Hill, New Jersey. The existing drawbridge operating regulations are listed at 33 CFR 117.723(e). In their request, Amtrak provided the Coast Guard with bridge opening logs from 2011 to 2018, which showed that the number of bridge openings declined significantly since 2016 rush hour train traffic increased during the same period, arguing that the decreased demand for bridge openings and increased train traffic enabled modifications to the bridge's special operating regulation. The Coast Guard collected stakeholder feedback regarding a proposed change to the bridge's schedule via a December 13, 2018 public notice and a conference call on February 7, 2019. This 180 day temporary deviation to the regulation will allow the Coast Guard, waterway stakeholders, and the bridge owner to collect vessel traffic and other data to assess the impact of changing the bridge's operating schedule.

The Amtrak Portal Bridge is a swing bridge with a vertical clearance of 23 feet at mean high water and 28 feet at mean low water in the closed position. The waterway users are seasonal recreational vessels and commercial vessels of various sizes. The 2017 and 2018 bridge logs indicated the number of bridge openings during rush hour have become minimal (one or two vessels per month), however, most of the waterway vessel traffic requires high tide when transiting under the bridge and needs an opportunity during rush hour for possible openings.

The Coast Guard is publishing this temporary deviation to test the proposed change to the bridge's operating schedule and determine whether a permanent change to the schedule is necessary to better balance the needs of marine and rail traffic.

Under this deviation, in effect from 12:01 a.m. on March 14, 2019, to 11:59 p.m. on September 9, 2019, the Amtrak Portal Bridge need not open for the passage of vessel traffic from 5 a.m. to 10 a.m. and from 3 p.m. to 8 p.m. Additional bridge openings shall be provided for tide restricted commercial vessels between 7 a.m. and 8 a.m. and between 5 p.m. and 6 p.m., if at least a two-hour advance notice is given by calling the number posted at the bridge. At all other times the bridge shall open on signal if at least two-hour advance notice is given.

Vessels able to pass through the bridge in the closed position may do so at any time. There are no alternate routes. The bridge will be able to open for emergencies.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

II. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, visit http://www.regulations.gov/privacynotice.

Documents mentioned in this notification as being available in this docket and all public comments, will be in our online docket at http://www.regulations.gov and can be viewed by following that website's instructions. Additionally, if you go to the online docket and sign up for email alerts, you will be notified when comments are posted or a final rule is published.

Dated: March 12, 2019.
C.J. Bisignano,
Supervisory Bridge Management Specialist, First Coast Guard District.

[FR Doc. 2019-04889 Filed 3-14-19; 8:45 am]

BILLING CODE 9110-04-P